DEPARTMENT OF HEALTH AND HUMAN SERVICES

National Institutes Of Health

Prospective Grant of Exclusive License: Vaccines Against Rotavirus Disease

AGENCY: National Institutes of Health, Public Health Service, DHHS.

ACTION: Notice.

SUMMARY: This is notice in accordance with 35 U.S.C. 209(c)(1) and 37 CFR 404.7(a)(1)(i) that the National Institutes of Health (NIH), Department of Health and Human Services, is contemplating the grant of an exclusive world-wide license to practice the invention embodied USPN 4,704,275, USPN 4,751,080 (“Vaccine Against Rotavirus Disease” and USPN 4,571,385 (“Genetic Re-assortment Of Rotaviruses For Production Of Vaccines And Vaccine Precursors”) and foreign patent applications or other related materials to BIOVIRx, Inc. of Shoreview, MN. The rights to this invention have been assigned to the United States of America.

DATES: Only written comments and/or applications for a license which are received by NIH on or before April 15, 2003 will be considered.

ADDRESSES: Requests for a copy of a license application, inquiries, comments and other materials relating to the contemplated license should be directed to: Steven M. Ferguson, Deputy Director, Division of Technology Development and Transfer, Office of Technology Transfer, National Institutes of Health, 6011 Executive Boulevard, Suite 325, Rockville, MD 20852; Telephone: (301) 435-5561; Facsimile: (301) 402-0220; E-mail: sf8h@nih.gov.

SUPPLEMENTARY INFORMATION: U.S. Patents 4,704,275 and 4,751,080 describe a live, attenuated serotype 3 rhesus rotavirus (or reassortments thereof) suitable for prevention of rotavirus disease in humans. U.S. Patent 4,571,385 describes methods of producing a human rotavirus vaccine based upon the re-assortment of human and non-human rotavirus strains.

The prospective exclusive license will be royalty bearing and will comply with the terms and conditions of 35 U.S.C. 209 and 37 CFR 404.7. It is anticipated that this license may be limited to the field of immunoprophylactic protection against rotavirus disease.

This prospective exclusive license may be granted unless within sixty (60) days from the date of this published notice, NIH receives written evidence and argument that establishes that the grant of the license would not be consistent with the requirements of 35 U.S.C. 209 and 37 CFR 404.7.

Applications for a license filed in response to this notice will be treated as objections to the grant of the contemplated license. Comments and objections submitted in response to this notice will not be made available for public inspection, and, to the extent permitted by law, will not be released under the Freedom of Information Act, 5 U.S.C. 552.

Dated: January 29, 2003.
Jack Spiegel,
Director, Division of Technology Development and Transfer, Office of Technology Transfer.

[FR Doc. 03-3616 Filed 2-13-03; 8:45 am]

BILLING CODE 4140-01-P